NATIONAL SCIENCE FOUNDATION

National Science Board Sunshine Act Meetings

The National Science Board's Elections Committee, pursuant to NSF regulations (45 CFR part 614), the National Science Foundation Act, as amended (42 U.S.C. 1862n-5), and the Government in the Sunshine Act (5 U.S.C. 552b), hereby gives notice in regard to the scheduling of a meeting for the transaction of National Science Board business, as follows:

TIME AND DATE: Friday, April 29, at 2 p.m. EDT.

PLACE: This meeting will be held by teleconference originating at the National Science Board Office, National Science Foundation, 4201 Wilson Blvd., Arlington, VA 22230.

STATUS: Closed.

MATTERS TO BE CONSIDERED: Election Committee Chair's opening remarks; approval of minutes of the closed February 2016 meeting; confirmation of slate of nominations; and discussion of next steps and Chair's closing remarks.

CONTACT PERSON FOR MORE INFORMATION: Please refer to the National Science Board Web site (www.nsf.gov/nsb) for information or schedule updates, or contact: Ron Campbell (jrcampbe@nsf.gov), National Science Foundation, 4201 Wilson Blvd., Arlington, VA 22230.

Ann Bushmiller,
NSB Senior Legal Counsel.

[FR Doc. 2016-10478 Filed 5-2-16; 11:15 am]

BILLING CODE 7555-01-P